DEPARTMENT OF TRANSPORTATION

Federal Motor Carrier Safety Administration

[Docket No. FMCSA-2023-0172]

Agency Information Collection Activities; Approval of a New Information Collection Request: Impact of Driver Detention Time on Safety and Operations

AGENCY: Federal Motor Carrier Safety Administration (FMCSA), Department of Transportation (DOT).

ACTION: Notice and request for comments.

SUMMARY: In accordance with the Paperwork Reduction Act of 1995, FMCSA announces its plan to submit the Information Collection Request (ICR) described below to the Office of Management and Budget (OMB) for review and approval.

This notice invites comments on a proposed information collection titled Impact of Driver Detention Time on Safety and Operations. This research study will collect data on commercial motor vehicle (CMV) driver detention time representative of the major segments of the motor carrier industry, analyze that data to determine the frequency and severity of detention time, and assess the utility of existing intelligent transportation systems (ITS) solutions to measure detention time. Approximately 80 carriers and 2,500 CMV drivers will provide data in the study. The study will provide a better understanding of the impact of driver detention time on driver safety and CMV operations and inform strategies that may be used to mitigate driver detention time. The number of public comments received in response to the 60-day FR notice was 171.

DATES: Comments on this notice must be received on or before March 18, 2024.

ADDRESSES: Written comments and recommendations for the proposed information collection should be sent within 30 days of publication of this notice to www.reginfo.gov/public/do/PRAMain. Find this information collection by selecting “Currently under 30-day Review—Open for Public Comments” or by using the search function.

FOR FURTHER INFORMATION CONTACT: Dan Britton, Mathematical Statistician, Office of Research and Registration, DOT, FMCSA, 6th Floor, West Building, 1200 New Jersey Avenue SE, Washington, DC 20590-0001; 202-366-9980; dan.britton@dot.gov.

SUPPLEMENTARY INFORMATION:

Title: Impact of Driver Detention Time on Safety and Operations.

OMB Control Number: 2126-00XX.

Type of Request: New ICR.

Respondents: CMV carriers and drivers.

Estimated Number of Respondents: 80 CMV carriers and 2,500 CMV drivers.

Estimated Time per Response: 30 seconds (for drivers and CMV carrier operation team).

Expiration Date: This is a new ICR.

Frequency of Response: Once per delivery/pick-up.

Estimated Total Annual Burden: 7,869.17 hours.

Background

“Detention time” refers to the extra time CMV operators wait at shipping and receiving facilities due to delays not associated with the loading and unloading of cargo. Drivers are often not paid for this extra time. Although there is currently no standard definition of detention time, the CMV industry, the U.S. Government, and academic researchers in the United States have previously used dwell time—the total amount of time spent at a facility—exceeding 2 hours to define when detention time occurs.

Detention time in the CMV industry is a longstanding issue and consistently ranks as one of the top problems for a large portion of CMV operators on an ongoing basis. Further, detention time often results in lost revenue for many drivers and carriers. Reducing detention time may reduce costs for carriers, increase pay for drivers, and improve CMV drivers' ability to make deliveries on time or arrive at a destination as planned without violating hours of service (HOS) requirements. Finally, drivers who experience less detention time may be more likely to drive safely to reach their destinations within the HOS limits and less likely to operate beyond HOS limits and improperly log their driving and duty time to make deliveries on time.

An important first step in addressing detention time is understanding the factors that contribute to the issue. FMCSA completed a study in 2014 on the impact of detention time on CMV safety. Although this study provided valuable initial insights, it had several limitations, including a small sample of mostly large carriers, a rudimentary estimation of detention time, the inability to identify time spent loading/unloading, and data that did not cover an entire 12-month period. Therefore, FMCSA needs additional data from a broader sample of carriers to understand the safety and operational impact of detention time, to better understand why detention time occurs, and to identify potential mitigation strategies the CMV industry may use to reduce detention time while improving operational efficiencies and safety.

The purpose of obtaining data in this study is to evaluate the impact of driver detention time on safety and CMV operations. Specifically, there are three primary objectives for the data collection in this study: (1) assess the frequency and severity of driver detention time using data that represent the major segments of the motor carrier industry; (2) assess the utility of existing ITS solutions to measure detention time; and (3) prepare a final report that summarizes the findings, answers the research questions, and offers strategies to reduce detention time. Completing these research objectives will provide insight into any relationship between driver detention time and CMV safety. Additionally, the findings from this study can contribute to a more complete understanding of these issues and facilitate private sector decisions that lead to reductions in detention time and improvements in safety and supply chain efficiency.

The study includes data collection via electronic logging devices (ELDs), transportation management systems (TMS), vehicle telematic systems, safety records, and answers to questions delivered through the carriers' dispatching systems. The ELD, TMS, telematics, and safety data are already collected by carriers. The only additional data that will be collected will be the answers to questions submitted through the carriers' dispatching systems. This information will allow FMCSA to identify the severity and frequency of detention time, the factors that contribute to detention time, and the administrative, operational, and safety outcomes of detention time. After agreeing to participate in the study, carriers will collect and provide 12 months of data.

The carriers will be selected so that the sample is representative of the nation. Carriers will be selected from those who use an ELD, TMS, and telematics device or app that is integrated with the research team's data collection system for delivery/pickup details, telematics and vehicle tracking metrics, and ELD data. However, the study may include other carriers that express interest in participating if they use an ELD, TMS, and telematics device that can be integrated with the research team's system to collect data. These data are critical to answer the research questions. The final sample from this source will include up to 80 carriers with up to 2,500 total vehicles. This sample will include a variety of carrier operations, including long haul/short haul, private/company fleets and for-hire fleets, port servicing (primarily chassis), owner-operators, hourly and mileage-based operators, truckload/less-than-truckload, and dedicated local delivery. These carriers will range in size from single-vehicle owner-operators to carriers with hundreds of trucks, with a likely average fleet size of approximately 30 vehicles. Multiple analyses will be performed, including assessing the relationships between detention time and characteristics of carriers, facility locations, and driver schedules (appointment times, time of day, day of week, month, and season). Measures of detention time will include the number of detained stops per shift and the duration of each detention. Regression models will be used to compare these variables for significant differences in associated detention time.

Another analysis will examine the relationship between detention time and safety outcomes during the shifts following the detention time. The relationships between detention time and safety outcomes will be evaluated by generalized linear models such as Poisson or negative binomial regression models. The independent variables will be the characteristics of detention time, such as detention time per shift. The response variable will be the number of safety outcomes (e.g., crashes) that occurred during the subsequent shift. The driving time will be treated as an exposure variable to normalize crash risk with respect to driving time.

Finally, the study will estimate the cost per year associated with detention time, including lost productivity, disruptions to the supply chain, and any increases in fatal, injury, and property-damage-only crashes.

FMCSA published the 60-day Federal Register notice on August 24, 2023, and the comment period closed on October 24, 2023 (88 FR 58060). A total of 171 comments were received from the public. These comments revolved around 11 issues, with many comments covering more than one issue, to varying degrees: (1) the relationship between detention time and driver compensation; (2) organizational issues at the shipper/receiver, carrier, and/or broker; (3) the relationship between detention time and pick-up/delivery appointment times; (4) examples of detention time characteristics as experienced by commenters; (5) the relationship between detention time and HOS regulations; (6) the impact of detention time on logistics and the economy; (7) the impact of detention time on driver welfare; (8) the impact of detention time on driver and roadway user safety; (9) suggestions and support for detention time-related regulations; (10) considerations for defining and quantifying detention time and collecting necessary data; and (11) general support for the study. Responses to these issues are provided below. Many comments touched on multiple issues; however, the responses below are organized based on the primary feedback provided.

The Relationship between Detention Time and Driver Compensation

Two-thirds of the comments described a relationship between detention time and driver compensation. The comments included descriptions of current pay structures, including driver pay modality (i.e., pay by mile, load, or hour) and detention-specific compensation (e.g., pay per detainment, maximum pay, proportion of detainment-related pay received by driver, etc.). The comments reflected hypotheses that current pay structures impact detention frequency and severity and that detention frequency and severity, in turn, also affect driver compensation. Several comments also included proposed compensation approaches to address detention frequency and severity and the resulting financial impacts on drivers.

FMCSA believes it is important to understand the relationship between driver compensation and detention time. An assessment of driver compensation and safety and other driver-related factors (including detention time) is the focus of a separate study sponsored by FMCSA and conducted by the Transportation Research Board. The study outlined in this notice is focused on the relationship between driver detention time, safety, and operations. FMCSA believes these studies will complement each other and provide vital information on detention time.

Organizational Issues at The Shipper/Receiver, Carrier, and/or Broker

A total of 78 comments described organizational issues at the shipper/receiver, carrier, and/or broker level and their impacts on detention time. These comments included inefficiencies at shippers/receivers that increase detention time (e.g., understaffed shipper/receiver facilities leading to backups in loading/unloading; difficult driver check-in procedures adding to time spent at a facility; products being processed at loading, which extends the loading time; shippers/receivers not honoring appointment times; lack of room in storage facilities for products to be unloaded; appointment times scheduled for facility shift changes or breaks; and overloading the truck). Comments also described poor communication and unequal power dynamics between shippers/receivers, drivers, and carriers/brokers regarding expected loading/unloading times and detention times. Several comments described difficulties obtaining verified documentation of detention time due to complicated paperwork and concern for adding waiting time to have paperwork completed. A few comments touched on leased warehouses and the potential impact on detention time.

These comments illustrate the need to collect data on loading/unloading time, active dwell time, and detention time. The study outlined in this notice will collect this data through multiple methods: driver self-report, TMS data (such as shipper/receiver, order pick-up/delivery locations, appointment time, billed amount for detention time, etc.), and telematics/ELD data (such as latitude and longitude and duty status). In addition, analyses in the study will consider carrier fleet size, operation type, geographic location, time of year, facility type, and other key features to determine their impacts on detention time and safety. Some comments proposed solutions to reduce detention time, but the study will only collect data on detention time as it occurs, without attempting to determine the effectiveness of alternative methods of reducing detention time.

The Relationship Between Detention Time and Pick-Up/Delivery Appointment Times

A total of 27 comments touched on the relationship between detention time and pick-up/delivery appointment times. The comments included discussions of appointment times not being honored at pick-up/delivery locations, unrealistic scheduled appointment times, and the impact of detention time on the remaining pick-up/delivery appointment times scheduled for the day or week. The study will collect data on appointment times (if applicable) through the carriers' TMS. The data will be analyzed to assess whether detention time varies for pick-ups/deliveries with and without appointment times.

Shared Examples of Detention Time Characteristics as Experienced by Commenters

A total of 49 comments provided detailed examples of detention time as experienced by commenters, some describing typical situations, with others describing atypical but significant situations, including reports of detention time lasting 24 hours. The study will capture detention time reports from up to 2,500 drivers over a year of driving. The detention time data will be assessed to understand the full spectrum of detention time experienced by the participating carriers and drivers.

The Relationship Between Detention Time and Hours-of-Service Regulations

A total of 41 comments described the relationship between detention time and HOS regulations. At a high level, HOS regulations provide legal boundaries on daily and weekly driving and working hours. The comments described the difficulty in capturing detention time using standard HOS regulation duty statuses. When waiting at shippers/receivers, drivers often need to remain vigilant for their opportunity to load/unload, and they might use this time to perform non-driving work, which means they are not truly “off duty.” However, remaining “on duty” for detention time can use a significant portion of drivers' regulated workday hours, limiting their opportunities to work or drive after they leave the shipper/receiver. After experiencing detention time, drivers also feel impacted by HOS limits when needing to drive to a safe resting location. Comments included discussion of falsifying logs after detention time. The study will capture information on drive time, work time, and HOS-related violations through ELD data and driver self-reports via prompted electronic questions. Additionally, the study will collect data on all activity while the vehicle is at a delivery/pickup location to account for drivers who go off-duty while detained. These data will provide a better understanding of the relationship detention time has with HOS regulations.

Impact of Detention Time on Logistics and the Economy

Ten comments discussed the impact of detention time on logistics and the economy. Previous studies have estimated the impacts of detention time on industry earnings and society as a whole. The comments explained that detention time causes supply chain issues, impacts efficiency, and reduces time available to make additional pick-ups and deliveries, and can reduce the quality of goods, leading to products being rejected by the receiver upon delivery. Additionally, drivers often use fuel while waiting to load/unload. The study outlined in this notice will investigate the costs of driver detention time in terms of lost productivity and disruptions to the supply chain.

The Impact of Detention Time on Driver Welfare

There were 66 comments that discussed the impact of detention time on driver welfare. Drivers who experience detention time may find themselves unexpectedly needing to complete their route at night. Commenters reported not being allowed to rest while waiting to load/unload and not being allowed to rest at the shipper/receiver after detention time, forcing them to return to the roadway to find safe parking. Commenters mentioned that drivers are often not granted access to essential facilities, such as restrooms or vending machines (possibly as a coronavirus disease mitigation strategy), and yet they also cannot leave the shipper/receiver without risking their place in line. For all these reasons, detention time can increase fatigue and cause stress, frustration, and anger. Several comments discussed the Fair Labor Standards Act (FLSA), which regulates minimum wage and overtime pay for private and government employees. Drivers are exempt from FLSA laws. The impact of detention time on driver welfare, while outside the scope of the current study, is an important topic and may be examined in a follow-up study.

The Impact of Detention Time on Driver and Roadway User Safety

A total of 73 comments discussed the impact of detention time on driver and roadway user safety. After experiencing detention time, drivers may be inclined to drive aggressively and/or over the speed limits to stay within their HOS regulatory limits, arrive at the next appointment on time, or return home. The comments described how detention time can lead to fatigued driving, driving during hours outside a driver's regular schedule (such as at night), unpredictable sleep schedules, and road rage.

The study will capture information on safety-related events through insurance claims data, Federal crash data, telematics data, and driver self-reports via prompted electronic questions. The study will link the safety-related event data to detention time data and assess whether driver detention influences the likelihood of crashes and fatigue.

Suggestions and Support for Detention Time-Related Regulations

A total of 41 comments provided suggestions and/or support for detention time-related regulations, including potential regulations addressing driver pay, use of appointment times versus open pick-up/delivery windows, shipper/receiver facility maintenance and upgrades to improve efficiency, the use of leased warehouses, standardization of detention time documentation on pick-up/delivery-related paperwork, the FLSA, reasonable wait times, fines for shippers/receivers who go beyond a federally established wait time limit, and the creation of a Federal and/or publicly-accessible database that documents shipper/receiver detention time behavior. FMCSA believes the study outlined in this notice is essential to obtaining a full and updated understanding of detention time, which will help identify solutions to the problem.

Considerations for Defining and Quantifying Detention Time and Collecting Necessary Data

Five comments raised concerns regarding how to define detention time, accurately quantify detention time according to a standard definition, and collect the necessary data to conduct the study analyses. The definition of detention time has varied across industry, government, and research; however, it generally includes components regarding the time the driver has been at the shipper/receiver, the duty status of the driver, and loading/unloading progress. The comments emphasized that the study needs to collect accurate data. The current study will collect detention time data through multiple methods: driver self-report, TMS data (such as shipper/receiver, order pick-up/delivery locations, appointment times, scheduled and planned arrival and departure times, billed amounts for detention time, etc.), and telematics/ELD data (such as latitude and longitude). The study will use GPS data and geofenced shipper/receiver facility data to obtain arrival and departure information.

One comment suggested broadening the sample universe to include more than one telematics service in FMCSA's carrier eligibility requirements. The comment also suggested expanding the sample universe to include carriers who do not use telematics services or ELDs. To collect the necessary data and answer the study research questions, carriers must use a telematics and ELD service. Since the 60-day Federal Register notice, FMCSA has partnered with one of the leading TMS, ELD, and telematics providers used by many small carriers. While the Agency may focus recruitment on clients of this service provider, the study documents have been revised to allow carriers using a different provider to participate if they meet the criteria and can integrate their platforms with the new technology provider.

Another comment emphasized the need to protect personal information shared by carriers and drivers in the study. Protecting participant data is of the utmost importance to FMCSA. The Agency will take all the necessary precautions to ensure the confidentiality of participant data. As part of this process, all drivers and carriers will be assigned anonymous identification numbers to link all datasets. Further, FMCSA will scrub all datasets of any information that could potentially identify participants. Identifying driver and carrier information will not be shared with the Agency.

One comment suggested the burden estimate was too low. However, the data management and cleaning tasks the commenter felt had not been accounted for will not be the responsibility of participating carriers. FMCSA will perform the additional data linking and cleaning tasks not included in the burden estimate. However, the Agency has removed the data collection task that asked carriers' operation teams to respond to questions each time an order is booked, scheduled, or dispatched. Information that would have been collected by these questions was determined to be redundant to information collected via the automated data collection system, and using the automated data collection system to collect this information will reduce the burden on participating carriers.

Support for the Study

Thirteen comments specifically mentioned support for the study. The comments expressed the importance of collecting accurate and representative data, highlighting how updated detention time assessments could be utilized to address the frequency and severity of detention time. FMCSA believes this is an important study that will provide a critical and updated understanding of detention time across various segments of the industry.

Public Comments Invited: You are asked to comment on any aspect of this information collection, including: (1) whether the proposed collection is necessary for the performance of FMCSA's functions; (2) the accuracy of the estimated burden; (3) ways for FMCSA to enhance the quality, usefulness, and clarity of the collected information; and (4) ways that the burden could be minimized without reducing the quality of the collected information.

Issued under the authority of 49 CFR 1.87.
Thomas P. Keane,
Associate Administrator, Office of Research and Registration.

[FR Doc. 2024-03256 Filed 2-15-24; 8:45 am]

BILLING CODE 4910-EX-P